DEPARTMENT OF LABOR

Employment and Training Administration

[TA-W-52,474]

Kulicke and Soffa Industries, Austin, TX; Notice of Affirmative Determination Regarding Application for Reconsideration

By letter of October 16, 2003, a petitioner requested administrative reconsideration of the Department of Labor's Notice of Negative Determination Regarding Eligibility to Apply for Worker Adjustment Assistance, applicable to workers of the subject firm. The Department's determination notice was signed on September 24, 2003 and published in the Federal Register on November 6, 2003 (68 FR 62832).

The Department has reviewed the request for reconsideration and has determined that the petitioner has provided additional information. Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC this 18th day of November, 2003.
Linda G. Poole,
Certifying Officer, Division of Trade Adjustment Assistance.

[FR Doc. 03-31302 Filed 12-18-03; 8:45 am]

BILLING CODE 4510-30-P